DEPARTMENT OF THE INTERIOR

National Park Service

[NPS-WASO-NRNHL-DTS#-29448; PPWOCRADI0, PCU00RP14.R50000]

National Register of Historic Places; Notification of Pending Nominations and Related Actions

AGENCY: National Park Service, Interior.

ACTION: Notice.

SUMMARY: The National Park Service is soliciting comments on the significance of properties nominated before November 30, 2019, for listing or related actions in the National Register of Historic Places.

DATES: Comments should be submitted by January 10, 2020.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before November 30, 2019. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

CALIFORNIA

Los Angeles County

Eastern Star Home, 11725 Sunset Blvd., Los Angeles, SG100004858

San Francisco County

Japanese YWCA, (Asian Americans and Pacific Islanders in California, 1850-1970 MPS), 1830 Sutter St., San Francisco, MP100004868

MINNESOTA

Clay County

Moorhead Storage and Transfer Company Warehouse, 1010 Center Ave., Moorhead, SG100004863

Kandiyohi County

Sperry, Albert H. and Jennie C., House, 228 Porto Rico St., Willmar, SG100004861

Waseca County

Waseca Commercial Historic District, Centering on State St. between Third Ave. NE/NW and Second Ave. SE/SW; Roughly Bounded by Second St. NW/SW and the Canadian Pacific RR Tracks, Waseca, SG100004864

NEW HAMPSHIRE

Sullivan County

Langdon Meeting House, Five Walker Hill Rd., Langdon, SG100004859

TEXAS

Galveston County

Galveston, Houston & Henderson (GH&H) Freight Depot, 325 33rd St., Galveston, SG100004866

An owner objection was received for the following resource:

CALIFORNIA

San Francisco County

Gran Oriente Filipino Hotel, (Asian Americans and Pacific Islanders in California, 1850-1970 MPS), 104-106 South Park St., San Francisco, MP100004869

A request for removal has been made for the following resource:

MINNESOTA

Wright County

Mealey, Tobias G., House, Territorial Rd., Monticello, OT76001082

Additional documentation has been received for the following resources:

ILLINOIS

Winnebago County

Haight Village Historic District (Additional Documentation), Roughly bounded by Walnut & Kishwaukee Sts., Chicago Northwestern RR tracks & Madison St., Rockford, AD87002044

MINNESOTA

Wright County

Akerlund, August, Photographic Studio (Additional Documentation), 390 Broadway Ave., Cokato, AD77000777

(Authority: Section 60.13 of 36 CFR part 60)

Dated: December 2, 2019.
Julie H. Ernstein,
Supervisory Archeologist, National Register of Historic Places/National Historic Landmarks Program.

[FR Doc. 2019-27737 Filed 12-23-19; 8:45 am]

BILLING CODE 4312-52-P